DEPARTMENT OF JUSTICE

Notice of Lodging of Proposed Consent Decree Under the Clean Water Act

On September 6, 2016, the Department of Justice lodged a proposed Consent Decree with the United States District Court for the District of Alaska in United States and the State of Alaska v. City of Palmer, Alaska,. Civil Action No. 3:16-cv-00204-TMB.

The Consent Decree settles claims brought by the United States and the State of Alaska pursuant to the Clean Water Act, 33 U.S.C. 1319, and Alaska Statute 46.03.760, for violations of Defendant's National Pollutant Discharge Elimination System permit at Defendant's wastewater treatment plant in Palmer Alaska. Under the Consent Decree, Defendant will undertake extensive upgrades at its wastewater treatment plant which are designed to correct the alleged violations and pay a civil penalty of $192,162 to the United States and State of Alaska.

The publication of this notice opens a period for public comment on the proposed Consent Decree. Comments should be addressed to the Assistant Attorney General, Environment and Natural Resources Division, and should refer to United States et al. v. City of Palmer, Alaska, D.J. Ref. No. 90-5-1-1-11214. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11.25 (25 cents per page reproduction cost) payable to the United States Treasury.

Susan M. Akers,
Assistant Section Chief, Environmental Enforcement Section, Environment and Natural Resources Division.

[FR Doc. 2016-21855 Filed 9-9-16; 8:45 am]

BILLING CODE 4410-15-P